DEPARTMENT OF JUSTICE

Notice of Lodging of Consent Decree In United States v. MI Metals, Inc. Under the Clean Air Act

Under 28 CFR 50.7, notice is hereby given that on May 20, 2009, a proposed consent decree (“Consent Decree”) between MI Metals, Inc. (“MI Metals”) and the United States, Civil Action No. 8:09-cv-921, was lodged with the United States District Court for the Middle District of Florida, Tampa Division.

The Consent Decree would resolve claims asserted by the United States against MI Metals pursuant to Section 113(b) of the Clean Air Act (the “Act”), 42 U.S.C. 7413(b), seeking injunctive relief and the assessment of civil penalties for MI Metal's violations of Section 112 of the Act, 42 U.S.C. 7412, and the National Emissions Standards for Hazardous Air Pollutants (“NESHAP”) for Secondary Aluminum Production, codified at 40 CFR Part 63, Subparts A and RRR, and Rule 62-204.800(11) of the Florida Administrative Code (which incorporates the federal regulations by reference). Pinellas County is a party to the settlement and has moved to intervene in this action.

MI Metals operates a secondary aluminum production facility in Oldsmar, Pinellas County, Florida. The complaint filed by the United States alleges that MI Metals began charging dirty (coated) scrap into the furnace at its Oldsmar, Florida facility on July 14 2003, which made this furnace subject to the testing, operating, and monitoring requirements of 40 CFR Part 63, Subparts A and RRR. The United States' Complaint further alleges that MI Metals violated a number of these requirements, including demonstration of an adequate emissions capture/collection system on the furnace; appropriate performance testing to demonstrate compliance with the regulation's dioxin and furan (“D/F”) emissions limit; and monitoring of key operating parameters to assure ongoing compliance with the emissions limit.

The proposed Consent Decree would require MI Metals to make modifications to the emissions hood on the furnace; to re-test the furnace; and to comply with a number of operating and monitoring requirements. Finally, the proposed Consent Decree would require MI Metals to pay a $210,000 civil penalty.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. MI Metals, Inc., D.J. Ref. No. 90-5-2-1-08988.

The Consent Decree may be examined at the Office of the United States Attorney, Middle District of Florida, 400 North Tampa Street, Suite 3200, Tampa, Florida 33602, and at U.S. EPA Region 4, 61 Forsyth Street, SW., Atlanta, Georgia, 30303. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.00 (25 cents per page reproduction cost) payable to the U.S. Treasury or, if by e-mail or fax, forward a check in that amount to the Consent Decree Library at the stated address.

Maureen Katz,
Deputy Section Chief, Environmental Enforcement Section, Environment and Natural Resources Division.

[FR Doc. E9-12188 Filed 5-26-09; 8:45 am]

BILLING CODE 4410-15-P